EXPORT-IMPORT BANK

[Public Notice 2019-6009]

Agency Information Collection Activities: Comment Request

AGENCY: Export-Import Bank of the U.S.

ACTION: Submission for OMB Review and Comments Request

SUMMARY: The Export-Import Bank of the United States (EXIM), as part of its continuing effort to reduce paperwork and respondent burden, invites the general public and other Federal Agencies to comment on the proposed information collection, as required by the paperwork Reduction Act of 1995. EXIM enables U.S. exporters to compete fairly in foreign markets on the basis of price and product by neutralizing the effect of export credit insurance and guarantees offered by foreign governments and by absorbing credit risks that the private section will not accept. This collection of information is necessary to determine eligibility of the applicant for EXIM support.

DATES: Comments should be received on or before June 7, 2019 to be assured of consideration.

ADDRESSES: Comments may be submitted electronically on WWW.REGULATIONS.GOV (EIB 95-10) or by email to Mia.Johnson@exim.gov or by mail to Mia L. Johnson, Export Import Bank of the United States, 811 Vermont Ave. NW, Washington, DC 20571. The application can be viewed at http://www.exim.gov/sites/default/files/pub/pending/eib95-10all.pdf.

SUPPLEMENTARY INFORMATION:

Titles and Form Number: EIB 95-10 Application for Long Term Loan or Guarantee.

OMB Number: 3048-0013.

Type of Review: Renewal.

Need and Use: The information collected will provide information needed to determine compliance and creditworthiness for transaction requests submitted to the Export Import Bank under its long term guarantee and direct loan programs.

Affected Public: This form affects entities involved in the export of U.S. goods and services.

Annual Number of Respondents: 84.

Estimated Time per Respondent: 1.75 hours.

Annual Burden Hours: 147 hours.

Frequency of Reporting or Use: As needed.

Government Expenses:

Reviewing Time per Year: 147 hours.

Average Wages per Hour: $42.50.

Average Cost per Year: $6,248 (time*wages).

Benefits and Overhead: 20%.

Total Government Cost: $7,498.

Bassam Doughman,
IT Specialist.

[FR Doc. 2019-06799 Filed 4-5-19; 8:45 am]

BILLING CODE 6690-01-P